DEPARTMENT OF TRANSPORTATION

Federal Motor Carrier Safety Administration

[Docket No. FMCSA-2022-0136]

Agency Information Collection Activities; Renewal of an Information Collection Request: Transportation of Hazardous Materials; Highway Routing

AGENCY: Federal Motor Carrier Safety Administration (FMCSA), Department of Transportation (DOT).

ACTION: Notice and request for comments.

SUMMARY: In accordance with the Paperwork Reduction Act of 1995, FMCSA announces its plan to submit the information collection request (ICR) described below to the Office of Management and Budget (OMB) for review and approval. FMCSA requests approval to renew an ICR titled, “Transportation of Hazardous Materials, Highway Routing.” The information reported by States and Indian Tribes is necessary to identify designated/restricted routes and restrictions or limitations affecting how motor carriers may transport certain hazardous materials on highways, including dates that such routes were established and information on subsequent changes or new hazardous materials routing designations. FMCSA did not receive any comments in response to the 60-day Federal Register Notice published on September 8, 2022.

DATES: Comments on this notice must be received on or before March 6, 2023.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Ms. Melissa Williams, General Engineer, Office of Safety/Hazardous Materials Division, DOT, FMCSA, 6th Floor, West Building, 1200 New Jersey Avenue SE, Washington, DC 20590-0001; 202-366-4163; melissa.williams@dot.gov.

SUPPLEMENTARY INFORMATION:

Title: Transportation of Hazardous Materials, Highway Routing.

OMB Control Number: 2126-0014.

Type of Request: Renewal of a currently approved ICR.

Respondents: The reporting burden is shared by 50 States, the District of Columbia, Indian Tribes with designated routes, and U.S. Territories including Puerto Rico, American Samoa, Guam, the Commonwealth of the Northern Mariana Islands, and the U.S. Virgin Islands.

Estimated Number of Respondents: 57 [36 States + the District of Columbia, with designated hazardous materials highway routes + 19 States/U.S. Territories without designated hazardous materials highway routes + 1 Indian Tribe with a designated route = 57].

Estimated Time per Response: 15 minutes.

Expiration Date: April 30, 2023.

Frequency of Response: Once every 2 years.

Estimated Total Annual Burden: 7 hours [57 annual respondents × 1 response per 2 years × 15 minutes per response/60 minutes per response = 7.125 hours rounded to 7 hours].

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Thomas P. Keane,
Associate Administrator, Office of Research and Registration.

[FR Doc. 2023-02241 Filed 2-2-23; 8:45 am]

BILLING CODE 4910-EX-P